DEPARTMENT OF THE INTERIOR

National Park Service

[NPS-WASO-NAGPRA-20039; PPWOCRADN0-PCU00RP14.R50000]

Notice of Intent To Repatriate a Cultural Item: Binghamton University, State University of New York, Binghamton, NY

AGENCY: National Park Service, Interior.

ACTION: Notice.

SUMMARY: Binghamton University, in consultation with the appropriate Indian tribes or Native Hawaiian organizations, has determined that the cultural item listed in this notice meets the definition of a sacred object. Lineal descendants or representatives of any Indian tribe or Native Hawaiian organization not identified in this notice that wish to claim these cultural items should submit a written request to Binghamton University. If no additional claimants come forward, transfer of control of the cultural items to the lineal descendants, Indian tribes, or Native Hawaiian organizations stated in this notice may proceed.

DATES: Representatives of any Indian tribe that believes it has a cultural affiliation with the cultural item should contact Binghamton University at the address below by February 26, 2016.

ADDRESSES: Nina M. Versaggi, Public Archaeology Facility, Binghamton University, Binghamton, NY 13902-6000, telephone (607) 777-4786.

SUPPLEMENTARY INFORMATION: Notice is here given in accordance with the Native American Graves Protection and Repatriation Act (NAGPRA), 25 U.S.C. 3005, of the intent to repatriate a cultural item in the possession of Binghamton University that meets the definition of sacred object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item(s)

During the middle to late 1960s, the Anthropology Department at Binghamton University acquired a False Face mask made by an artist from the Six Nations, in Ontario, Canada. A typed index card accompanying the mask reads: “Broken Nose, Seneca Nation, Snapping Turtle Clan, Six Nations Reservation—Ontario.” The mask is carved wood with a black face with a red mouth, with a hole on one side (right side, facing out), and a pointed chin. The mask face has holes in the nose and metal eye inlays surrounding center eyeholes. The face is framed with yellow hair, and there are carved lines on the face.

On March 11, 2003, Binghamton University hosted a consultation meeting for federally recognized tribes to review NAGPRA summaries as part of the process of determining cultural affiliation. A group of traditional representatives from the Cayuga Nation; Saint Regis Mohawk Tribe (previously listed as the St. Regis Band of Mohawk Indians of New York); Seneca Nation of Indians (previously listed as the Seneca Nation of New York); Tonawanda Band of Seneca (previously listed as the Tonawanda Band of Seneca Indians of New York); and the Tuscarora Nation, met privately after the open consultation. In January of 2013, letters were sent to Seneca representatives asking for comments or claims on the mask. On September 22, 2015, Scott Abrams, Acting Director of the Seneca Nation of Indians Tribal Historic Preservation Officer contacted Binghamton University and formally requested repatriation of the Seneca mask. Binghamton University asked other Seneca representatives if they agreed. No comments were received.

Determinations Made by Binghamton University

Officials of Binghamton University have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Seneca Nation.

Additional Requestors and Disposition

Representatives of any other Indian tribe that believes itself to be culturally affiliated with the sacred object should contact Nina M. Versaggi, Public Archaeology Facility, Binghamton University, Binghamton, NY 13902-6000, telephone (607) 777-4786, before February 26, 2016. Repatriation of the sacred object to the Seneca Nation of Indians (previously listed as the Seneca Nation of New York) Tribal Historic Preservation Office may proceed after that date if no additional claimants come forward.

Binghamton University is responsible for notifying the Cayuga Nation; Delaware Nation, Oklahoma; Delaware Tribe of Indians; Oneida Nation of New York; Oneida Tribe of Indians of Wisconsin; Onondaga Nation; Saint Regis Mohawk Tribe (previously listed as the St. Regis Band of Mohawk Indians of New York); Seneca Nation of Indians (previously listed as the Seneca Nation of New York); Seneca-Cayuga Tribe of Oklahoma; Stockbridge Munsee Community, Wisconsin; Tonawanda Band of Seneca (previously listed as the Tonawanda Band of Seneca Indians of New York); and Tuscarora Nation that this notice has been published.

Dated: December 28, 2015.
Melanie O'Brien,
Manager, National NAGPRA Program.

[FR Doc. 2016-01591 Filed 1-26-16; 8:45 am]

BILLING CODE 4312-50-P